DEPARTMENT OF JUSTICE

Notice of Lodging of Consent Decree Pursuant to the Comprehensive Environmental Response, Compensation and Liability Act

In accordance with Departmental policy, 28 CFR 50.7, notice is hereby given that a proposed consent decree in United States v. The Tire Depot, Inc., et al., Civil Action No. CV-07-50-M-DWM, was lodged with the United States District Court for the District of Montana on May 1, 2007. This proposed consent decree would resolve the United States' CERCLA claims against The Tire Depot, Inc., Vernon Reum, and Roxanne Reum related to the Pablo Tire Fire Site in and near Ronan, Montana.

Under the terms of the proposed consent decree, the defendants will pay the United States $50,000 to reimburse the Environmental Protection Agency for cleanup costs incurred at the Site. The settlement is based in part on defendants' ability to pay.

The Department of Justice will receive, for a period of thirty (30) days from the date of this publication, comments relating to the proposed consent decree. Comments should be addressed to the Assistant Attorney General, for the Environment and Natural Resources Division, and either e-mailed to pubcomment-ees.enrd@usdoj.gov or mailed to P.O. Box 7611, Department of Justice, Washington, DC 20530, and should refer to United States v. The Tire Depot, Inc., et al., Civil Action No. CV-07-50-M-DWM, and Department of Justice Reference No. 90-11-3-08429.

The decree may be examined on the following Department of Justice Web site http://www.usdoj.gov/enrd/open.html. A copy of the decree may also be obtained by mail from the Consent Decree Library, P.O. Box 7611, U.S. Department of Justice, Washington, DC 20044-7611 or by faxing or e-mailing a request to Tonia Fleetwood tonia.fleetwood@usdoj.gov), fax no. (202) 514-0097, phone confirmation number (202) 514-1547. In requesting a copy from the Consent Decree Library, please enclose a check in the amount of $5.75 ($.25 per page) payable to the U.S. Treasury.

Robert D. Brook,
Assistant Chief, Environmental Enforcement Section, Environment and Natural Resources Division.

[FR Doc. 07-2408 Filed 5-16-07; 8:45 am]

BILLING CODE 4410-15-M